DEPARTMENT OF HEALTH AND HUMAN SERVICES

National Institutes of Health

Eunice Kennedy Shriver National Institute of Child Health & Human Development; Notice of Meeting

Pursuant to section 10(a) of the Federal Advisory Committee Act, as amended (5 U.S.C. App.), notice is hereby given of a meeting of the National Advisory Child Health and Human Development Council.

The meeting will be open to the public, with attendance limited to space available. Individuals who plan to attend and need additional information or special assistance, such as sign language interpretation or other reasonable accommodations, should notify the Contact Person listed below in advance of the meeting.

Name of Committee: National Advisory Child Health and Human Development Council; Subcommittee on Planning and Policy.

Date: January 20, 2010.

Time: 9 a.m. to 11 a.m.

Agenda: Topics to be discussed include: (1) Report of the Acting Director, NICHD; (2) Deputy Director's review of the Remote Council Process; (3) Concept Review Clearance discussions.

Place: National Institutes of Health, Building 31, 31 Center Drive, Room 2A-48, Bethesda, MD 20892. (Telephone Conference Call)

Contact Person: Elizabeth Wehr, Senior Public Health Analyst, Office of Science Policy, Analysis and Communication, NICHD/NIH/DHHS, 31 Center Drive, Suite 2A-18, Bethesda, MD 20892, 301-496-0805.

This notice is being published less than 15 days prior to the meeting due to the timing limitations imposed by the Executive Secretary's need for confirmation from subcommittee members on their availability to participate in this Meeting.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information is also available on the Institute's/Center's home page: http://www.nichd.nih.gov/about/nachhd.htm, where an agenda and any additional information for the meeting will be posted when available.

(Catalogue of Federal Domestic Assistance Program Nos. 93.864, Population Research; 93.865, Research for Mothers and Children; 93.929, Center for Medical Rehabilitation Research; 93.209, Contraception and Infertility Loan Repayment Program, National Institutes of Health, HHS)

Dated: January 8, 2010.
Jennifer Spaeth,
Director, Office of Federal Advisory Committee Policy.

[FR Doc. 2010-603 Filed 1-13-10; 8:45 am]

BILLING CODE 4140-01-P